DEPARTMENT OF TRANSPORTATION

Federal Aviation Administration

14 CFR Part 71

[Airspace Docket No. 01-ANM-08]

Proposed Amendment to Class E2 Airspace, Coppertown, MT

AGENCY: Federal Aviation Administration (FAA), DOT.

ACTION: Notice of Proposed Rulemaking (NPRM).

SUMMARY: This action proposes to amend the Class E2 airspace at Coppertown, MT and to change the designation of this airspace to Butte, MT. A recently installed weather reporting device qualifies the E2 airspace to be effective continuously. Class E2 controlled airspace, above the surface of the earth is required to contain aircraft executing the Instrument Flight Rules (IFR) operations at the Bert Mooney Airport, Butte, MT. The intended effect of this proposal is to provide adequate controlled airspace for IFR operations at Bert Mooney Airport, Butte, MT. Additionally, this action proposes to change the designation of this airspace by removing the designation of Coppertown, MT, and designating it as Butte, MT to adequately reflect the proper name of the airspace.

DATES: Comments must be received on or before August 24, 2001.

ADDRESSES: Send comments on the proposal in triplicate to: Manager, Airspace Branch, ANM-520, Federal Aviation Administration, Docket No. 01-ANM-08, 1601 Lind Avenue SW., Renton, Washington 98055-4056.

An informal docket may also be examined during normal business hours in the office of the Manager, Air Traffic Division, Airspace Branch, at the address listed above.

FOR FURTHER INFORMATION CONTACT: Brian Durham, ANM-520.7, Federal Aviation Administration, Docket No. 01-ANM-08, 1601 Lind Avenue SW., Renton, Washington 98055-4056: telephone number: (425) 227-2527.

SUPPLEMENTARY INFORMATION:

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy related aspects of the proposal. Communications should identify the airspace docket number and be submitted in triplicate to the address listed above. Commenters wishing the FAA to acknowledge receipt of their comments on this action must submit, with those comments, a self-addressed stamped postcard on which the following statement is made: “Comments to Airspace Docket No. 01-ANM-08.” The postcard will be date/time stamped and returned to the commenter. All communications received on or before the specified closing date for comments will be considered before taking action on the proposed rule. The proposal contained in this action may be changed in the light of comments received. All comments submitted will be available for examination at the address listed above both before and after the closing date for comments. A report summarizing each substantive public contact with FAA personnel concerned with this rulemaking will be filed in the docket.

Availability of NPRM's

Any person may obtain a copy of this NPRM by submitting a request to the Federal Aviation Administration, Airspace Branch, ANM-520, 1601 Lind Avenue SW., Renton, Washington 98055-4056. Communications must identify the docket number of this NPRM. Persons interested in being placed on a mailing list for future NPRM's should also request a copy of Advisory Circular No. 11-2A, which describes the application procedure.

The Proposal

The FAA is considering an amendment to Title 14 Code of Federal Regulations, part 71 (14 CFR part 71) by amending the Class E airspace at Coppertown, MT. The effective times for Class E2 airspace at Bert Mooney Airport, Butte, MT was restricted by NOTAM due to the availability of weather reporting. Newly installed weather reporting equipment at the Bert Mooney Airport now qualifies the Class E2 airspace for continuous operations. This action would promote safe flight to Bert Mooney Airport by Class E2 controlled airspace above the surface of the earth is required to contain aircraft executing the instrument flight operations at Bert Mooney Airport. Class E2 airspace is required to contain aircraft executing the instrument flight operations at Bert Mooney Airport.

The legal designation of Coppertown, MT, does not adequately reflect the airspace and airport this legal description supports. Confusion has occurred by airspace researchers analyzing the Butte, MT, Class E2 airspace as it is listed as Coppertown. Therefore, this amendment also proposes to change the designation of this Class E2 airspace from Coppertown, MT, to Butte, MT. The intended effect of this proposal is designed to provide for the safe and efficient use of the navigable airspace. This proposal would promote safe flight operations under IFR at the Bert Mooney Airport and between the terminal and en route transition stages.

The area would be depicted on aeronautical charts for pilot reference. The coordinates for this airspace docket are based on North American Datum 83. Class E airspace designated as surface area for an airport, are published in Paragraph 6002, of FAA Order 7400.9H dated September 1, 2000, and effective September 16, 2000, which is incorporated by reference in 14 CFR 71.1. The Class E airspace designation listed in this document would be published subsequently in the Order.

The FAA has determined that this proposed regulation only involves an established body of technical regulations for which frequent and routine amendments are necessary to keep them operationally current. It, therefore, (1) is not a “significant regulatory action” under Executive Order 12866; (2) is not a “significant rule” under DOT Regulatory Policies and Procedures (44 FR 11013; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

The Proposed Amendment

In consideration of the foregoing, the Federal Aviation Administration proposes to amend 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9H, Airspace Designations and Reporting Points, dated September 1, 2000, and effective September 16, 2000, is amended as follows:

Paragraph 6002 Class E airspace designated as surface area for an airport.

* * * * *

ANM MT E2 Coppertown, MT [Remove]

* * * * *

ANM MT E2 Butte, MT [New]

Bert Mooney Airport, MT

(Lat. 45°57′17″ N., long. 112°29′57″ W.)

Coppertown VORTAC

(Lat. 46°01′58″ N., long. 112°44′50″ W.)

Within a 4.3-mile radius of the Bert Mooney Airport; and within 1.8 miles each side of the Coppertown VORTAC 115° radial extending from the 4.3-mile radius to the VORTAC, and within 2.7 miles each side of the 316° bearing from the airport extending from the 4.3-mile radius to 11.4 miles northwest of the airport.

* * * * *

Issued in Seattle, Washington, on June 29, 2001.
Lee Daniel,
Acting Manager, Air Traffic Division, Northwest Mountain Region.

[FR Doc. 01-17242 Filed 7-9-01; 8:45 am]

BILLING CODE 4910-13-M